NUCLEAR REGULATORY COMMISSION

[Docket Nos. 50-280 AND 50-281]

Virginia Electric and Power Company, Surry Power Station, Unit Nos. 1 and 2; Environmental Assessment And Finding of No Significant Impact

The U.S. Nuclear Regulatory Commission (NRC) is considering issuance of an exemption from Title 10 of the Code of Federal Regulations (10 CFR) Part 50, Appendix E, Section IV.F.2.b and c for Renewed Facility Operating License Nos. DPR-32 and DPR-37, issued to Virginia Electric and Power Company (the licensee), for operation of the Surry Power Station, Unit Nos. 1 and 2 (Surry 1 and 2), located in Surry County, Virginia. Therefore, as required by 10 CFR 51.21, the NRC is issuing this environmental assessment and finding of no significant impact.

Environmental Assessment

Identification of the Proposed Action

The proposed action, as described in the licensee's application for a one-time exemption from the requirements of 10 CFR part 50, Appendix E, dated September 15, 2005, would allow the licensee to postpone the offsite full-participation emergency exercise from December 6, 2005, to February 7, 2006. The proposed action is in accordance with the licensee's application dated September 15, 2005, that requested an exemption from Section IV.F.2.b and c of Appendix E to 10 CFR part 50 regarding the full participation by each offsite authority having a role under the plan. The NRC staff has determined that the requirements of Appendix E to 10 CFR part 50, Sections IV.F.2.b and c are applicable to the circumstances of the licensee's request and that an exemption from those requirements is appropriate. The licensee also stated in its letter dated September 15, 2005, that Surry 1 and 2 will resume its normal biennial exercise cycle in 2007.

The Need for the Proposed Action

The proposed exemption from 10 CFR Part 50, Appendix E, Section IV.F.2.b and c is needed because the Virginia Department of Emergency Management (DEM) has requested to delay the full participation exercise from December 6, 2005, to February 7, 2006. The Virginia DEM had requested this delay in order to utilize the new Emergency Operations Center, which is currently under construction and will not become fully operational until January 2, 2006. In its letter to the licensee on May 20, 2005, the Federal Emergency Management Agency approved Virginia DEM's request to delay the full-participation exercise until February 7, 2006.

Environmental Impacts of the Proposed Action

The NRC has completed its safety evaluation (SE) of the proposed action and concludes that the proposed exemption will not present an undue risk to the public health and safety. The details of the NRC staff's SE will be provided in the exemption that will be issued as part of the letter to the licensee approving the exemption to the regulation. The action relates to the exercising of the emergency response plan, which has no effect on the operation of the facility.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the Final Environmental Statement related to the operation of Surry 1 and 2, May and June 1972, respectively.

Agencies and Persons Consulted

In accordance with its stated policy, on October 26, 2005, the NRC staff consulted with Mr. Les Foldesi, Director of the Bureau of Radiological Health, Department of Health, Commonwealth of Virginia, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated September 15, 2005. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 29th day of November 2005.
For the Nuclear Regulatory Commission.
Stephen R. Monarque,
Project Manager, Plant Licensing Branch II-1, Division of Operating Reactor Licensing, Office of Nuclear Reactor Regulation.

[FR Doc. E5-6893 Filed 12-5-05; 8:45 am]

BILLING CODE 7590-01-P